DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Gulf of Alaska Catcher Vessel & Processor Trawl (CVPT) Economic Data Report (EDR).

OMB Control Number: 0648-0700.

Form Number(s): None.

Type of Request: Regular (extension of a currently approved information collection).

Number of Respondents: 120.

Average Hours per Response: 15.

Burden Hours: 1,800.

Needs and Uses: The Gulf of Alaska Trawl Groundfish Economic Data Report Program evaluates the economic effects of current and future groundfish management measures for Gulf of Alaska (GOA) trawl fisheries. This program provides the National Marine Fisheries Service (NMFS) and the North Pacific Fishery Management Council with baseline information on affected harvesters, crew, processors, and communities in the GOA. Data collected through the economic data reports (EDRs) include labor information, revenues received, capital and operational expenses, and other operational or financial data. This information is used to assess the impacts of major changes in the groundfish management regime, including catch share program implementation.

The Catcher Vessel GOA Trawl EDR is submitted by owners or leaseholders of catcher vessels that harvest groundfish using trawl gear from the GOA or parallel fisheries. The Processor GOA Trawl EDR is submitted by owners or leaseholders of shoreside processors or stationary floating processors that receive deliveries from vessels that harvest groundfish using trawl gear from the GOA or parallel fisheries. Annual submission of these EDRs is mandatory.

Affected Public: Business or other for-profit organizations.

Frequency: Annually.

Respondent's Obligation: Required to obtain or retain benefits.

This information collection request may be viewed at reginfo.gov. Follow the instructions to view Department of Commerce collections currently under review by OMB.

Written comments and recommendations for the proposed information collection should be sent within 30 days of publication of this notice to OIRA_Submission@omb.eop.gov or fax to (202) 395-5806.

Dated: October 19, 2017.
Sarah Brabson,
NOAA PRA Clearance Officer.

[FR Doc. 2017-23058 Filed 10-23-17; 8:45 am]

BILLING CODE 3510-22-P